DEPARTMENT OF COMMERCE

National Oceanic and Atmospheric Administration

RIN 0648-XC145

Marine Fisheries Advisory Committee

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined in the agenda below.

DATES: The meeting is scheduled for August 20, 2012, 3-5 p.m., Eastern Daylight Time.

ADDRESSES: Conference call. Public access is available at 1311-B East-West Highway, Silver Spring, MD 20910.

FOR FURTHER INFORMATION CONTACT: Mark Holliday, (301) 427-8004; email: Mark.Holliday@noaa.gov.

SUPPLEMENTARY INFORMATION: The MAFAC was established by the Secretary of Commerce (Secretary), and, since 1971, advises the Secretary on all living marine resource matters that are the responsibility of the Department of Commerce. The complete charter and other information are located online at http://www.nmfs.noaa.gov/ocs/mafac/.

Matters To Be Considered

The Committee is convening to prepare comments from MAFAC on the draft National Aquaculture Research and Development Strategic Plan. This agenda is subject to change.

Dated: July 31, 2012.
Samuel D. Rauch III,
Deputy Assistant Administrator for Regulatory Programs, performing the functions and duties of the Assistant Administrator for Fisheries, National Marine Fisheries Service.

[FR Doc. 2012-19164 Filed 8-3-12; 8:45 am]

BILLING CODE 3510-22-P